DEPARTMENT OF TRANSPORTATION

Pipeline and Hazardous Materials Safety Administration

[Docket No. PHMSA-2014-0135]

Pipeline Safety: National Pipeline Mapping System Public Meeting

AGENCY: Pipeline and Hazardous Materials Safety Administration, DOT.

ACTION: Notice of public meeting.

SUMMARY: The Pipeline and Hazardous Materials Safety Administration (PHMSA) is holding a public meeting to discuss a National Pipeline Mapping System Information Collection revision that PHMSA proposed in a Federal Register notice on July 30, 2014.

DATES: The public meeting will be held on Monday, November 17, 2014. The meeting will run from 9:30 a.m. until 4:00 p.m. Registration will begin at 9:00 a.m.

ADDRESSES: The meeting will be held at the Crystal City Marriott at Reagan National Airport, 1999 Jefferson Davis Highway, Arlington, VA, 22202-3526, phone: 703-413-5500.

Registration: Members of the public may attend this meeting. The meeting will not be webcast. To help assure that adequate space is provided, all attendees are encouraged to register for the meeting in advance. Registration can be completed online at https://primis.phmsa.dot.gov/meetings/MtgHome.mtg?mtg=101&nocache=8420.

Comments: Members of the public may also submit written comments either before or after the meeting. Comments on this public event should reference Docket No. PHMSA-2014-0092. Comments may be submitted in the following ways:

• E-Gov Web site: http://www.regulations.gov. This site allows the public to enter comments on any Federal Register notice issued by any agency. Follow the instructions for submitting comments.

• Mail: Docket Management System, U.S. Department of Transportation (DOT), 1200 New Jersey Avenue SE., Room W12-140, Washington, DC 20590.

• Hand Delivery: DOT Docket Management System, Room W12-140, on the ground floor of the West Building, 1200 New Jersey Avenue SE., Washington, DC between 9:00 a.m. and 5:00 p.m., Monday through Friday, except Federal holidays.

Comment Instructions: Identify the docket number at the beginning of your comments. If you submit your comments by mail, submit two copies. If you wish to receive confirmation that PHMSA has received your comments, include a self-addressed stamped postcard. Internet users may submit comments at http://www.regulations.gov.

Information On Services For Individuals With Disabilities: For information on facilities or services for individuals with disabilities, or to request special assistance at the meeting, please contact Amy Nelson at 202-493-0591 or by email at amy.nelson@dot.gov.

FOR FURTHER INFORMATION CONTACT: Amy Nelson, GIS Manager, Office of Pipeline Safety, by phone at 202-493-0591 or by email at amy.nelson@dot.gov, regarding the subject matter of this notice.

SUPPLEMENTARY INFORMATION:

On July 30, 2014, PHMSA issued a Federal Register notice (79 FR 44246) to solicit comments on several revisions to the Information Collection titled “National Pipeline Mapping Program” identified under OMB Control Number 2137-0596. The primary purpose of these revisions is to collect data that is more accurate and complete that will also help emergency responders and government officials create better emergency response plans. In response to a comment from the American Gas Association, PHMSA issued a follow up Federal Register notice on September 30, 2014 (79 FR 58863) to extend the comment period from September 29, 2014, to December 1, 2014. PHMSA has received several comments from operators and industry groups that have expressed concern about the cost and time that will be needed to submit the additional data elements that are in the Information Collection and how PHMSA plans to keep the new data elements secure. As a result, PHMSA is holding a public meeting to provide an overview of the data elements and discuss stakeholder concerns.

The details of this meeting, including its location, time, registration information, and agenda items, will be available on the meeting registration Web site at https://primis.phmsa.dot.gov/meetings/MtgHome.mtg?mtg=101 as they are finalized.

Issued in Washington, DC, on October 28, 2014.
Alan K. Mayberry,
Deputy Associate Administrator for Policy and Programs.

[FR Doc. 2014-25998 Filed 10-31-14; 8:45 am]

BILLING CODE 4910-60-P